DEPARTMENT OF THE INTERIOR

Bureau of Land Management

[AK-910-1410-PG]

Notice of Meeting

December 6, 2001.

AGENCY: Bureau of Land Management, Interior.

ACTION: Notice of Alaska Resource Advisory Council meeting.

SUMMARY: The BLM Alaska Resource Advisory Council will conduct an open meeting Thursday, January 31, 2002, from 9:30 a.m. until 4 p.m. and Friday, February 1, 2002, from 8:30 a.m. until noon. The meeting will be held at the Campbell Creek Science Center, 6881 Abbott Loop Road, Anchorage.

Primary agenda items for the meeting include land use planning starts in Alaska and scoping for the northwest National Petroleum Reserve—Alaska and Colville River multiple use activity plans. The council will hear public comments Thursday, January 31, from 1-2 p.m. Written comments may be mailed to BLM at the address below.

ADDRESSES: Inquiries or comments should be sent to BLM External Affairs, 222 W. 7th Avenue, #13, Anchorage, AK 99513-7599.

FOR FURTHER INFORMATION CONTACT: Teresa McPherson, 907-271-3322, or via E-mail to teresa_mcpherson@ak.blm.gov.

Linda S.C. Rundell,
Associate State Director.

[FR Doc. 01-32130 Filed 12-31-01; 8:45 am]

BILLING CODE 4310-JA-M